DEPARTMENT OF THE INTERIOR

National Park Service

[NPS-WASO-NAGPRA-NPS0027191; PPWOCRADN0-PCU00RP14.R50000]

Notice of Intent To Repatriate Cultural Items: U.S. Fish and Wildlife Service, Office of Law Enforcement, Rio Rico, AZ

AGENCY: National Park Service, Interior.

ACTION: Notice.

SUMMARY: The U.S. Fish and Wildlife Service, in consultation with the appropriate Indian Tribes or Native Hawaiian organizations, has determined that the cultural item listed in this notice meets the definition of object of cultural patrimony. Lineal descendants or representatives of any Indian Tribe or Native Hawaiian organization not identified in this notice that wish to claim this cultural item should submit a written request to the U.S. Fish and Wildlife Service, Office of Law Enforcement, Rio Rico, AZ. If no additional claimants come forward, transfer of control of the cultural item to the lineal descendants, Indian Tribes, or Native Hawaiian organizations stated in this notice may proceed.

DATES: Lineal descendants or representatives of any Indian Tribe or Native Hawaiian organization not identified in this notice that wish to claim this cultural item should submit a written request with information in support of the claim to the U.S. Fish and Wildlife Service, Office of Law Enforcement at the address in this notice by March 11, 2019.

ADDRESSES: Jeff Moore, Wildlife Inspector, U.S. Fish and Wildlife Service, P.O. Box 4405, Rio Rico, AZ 85648, telephone (520) 287-4625, email jeffery_moore@fws.gov.

SUPPLEMENTARY INFORMATION: Notice is here given in accordance with the Native American Graves Protection and Repatriation Act (NAGPRA), 25 U.S.C. 3005, of the intent to repatriate a cultural item under the control of the U.S. Fish and Wildlife Service, Office of Law Enforcement, Rio Rico, AZ, that meets the definition of an object of cultural patrimony under 25 U.S.C. 3001.

This notice is published as part of the National Park Service's administrative responsibilities under NAGPRA, 25 U.S.C. 3003(d)(3). The determinations in this notice are the sole responsibility of the museum, institution, or Federal agency that has control of the Native American cultural item. The National Park Service is not responsible for the determinations in this notice.

History and Description of the Cultural Item

On January 30, 2018, one cultural item was seized at the Port of Entry in Nogales, AZ. The object seized is a deer head. The object has been identified by the Pascua Yaqui Tribe of Arizona as a Yaqui ceremonial deer head.

Determinations Made by the U.S. Fish and Wildlife Service

Officials of the U.S. Fish and Wildlife Service have determined that:

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the object of cultural patrimony and the Pascua Yaqui Tribe of Arizona.

Additional Requestors and Disposition

Lineal descendants or representatives of any Indian Tribe or Native Hawaiian organization not identified in this notice that wish to claim the cultural item should submit a written request with information in support of the claim to Jeff Moore, Wildlife Inspector, U.S. Fish and Wildlife Service, P.O. Box 4405, Rio Rico, AZ 85648, telephone (520) 287-4625, email jeffery_moore@fws.gov, by March 11, 2019. After that date, if no additional claimants have come forward, transfer of control of the object of cultural patrimony to the Pascua Yaqui Tribe of Arizona may proceed.

The U.S. Fish and Wildlife Service is responsible for notifying the Pascua Yaqui Tribe of Arizona that this notice has been published.

Dated: December 17, 2018.
Melanie O'Brien,
Manager, National NAGPRA Program.

[FR Doc. 2019-01612 Filed 2-7-19; 8:45 am]

BILLING CODE 4312-52-P